ENVIRONMENTAL PROTECTION AGENCY

[FRL-9951-35-OA]

Meeting of the Local Government Advisory Committee

AGENCY: Environmental Protection Agency (EPA).

ACTION: Notice.

SUMMARY: The Local Government Advisory Committee's (LGAC) Protecting America's Waters Workgroup is seeking input on the LGAC's Charge from the U.S. Environmental Protection Agency (EPA) to give advice and recommendations to the Administrator to inform the development of a National Action Plan for Drinking Water (Action Plan). The LGAC will provide their final recommendations to the EPA Administrator during the autumn of 2016.

EPA is committed to working with government partners, communities, and stakeholders to strengthen the nations drinking water systems. The LGAC Protecting America's Waters Workgroup will have a series of meetings to hear from local elected and appointed officials. These meetings will be held on Wednesday, September 7th, 2016 at 4:30-5:30 EDT; and Wednesday, September 21st, 4:30-5:30 EDT via teleconference. The focus of the workgroup meeting is to hear from local officials on issues of concern related to LGAC's Charge (included below).

The Workgroup will consider the following:

• Advancing Next Generation Safe Drinking Water Act Implementation: Identify key opportunities for federal, state, tribal and local government to work together to implementation of Safe Drinking Water Act regulations and programs, including ways to increase communication and public awareness and accountability.

• Addressing Environmental Justice and Equity in Infrastructure Funding: Identify ways in which federal, state, tribal and local governments, and utilities can work together to ensure that drinking water infrastructure challenges of low-income environmental justice communities and small systems are being appropriately prioritized and addressed, including through increased information, sharing and replicating best practices, and building community capacity.

• Strengthening Protections against Lead in Drinking Water: Identify opportunities to coordinate and collaborate on implementing the current Lead and Copper Rule, particularly in environmental justice communities and expand and strengthen opportunities for stakeholder engagement to support the development of a revised rule.

• Emerging and Unregulated Contaminant Strategies: Develop and implement improved approaches through which EPA, state, tribal and local governments, utilities and other stakeholders can work together to prioritize and address the challenges posed by emerging and unregulated contaminants such as algal toxins and perfluorinated compounds (PFCs) and increasing public awareness, especially in vulnerable populations.

• The Workgroup is also interested in information on how public and private sector partnerships have advanced economic solutions; where source water protection saved taxpayers' dollars; and where communities have created jobs and produced public savings by ensuring clean and healthy water infrastructure.

This is an open meeting and state, local and tribal officials are invited to participate. The Workgroup will hear comments from state, local and tribal officials and the public between 4:45 p.m.-5:15 p.m. on Wednesday, September 7, 2016 and Wednesday, September 21, 2016. Individuals or organizations wishing to address the workgroup will be allowed a maximum of five minutes to present their point of view. Also, written comments are encouraged and may be submitted electronically to Eargle.Frances@epa.gov.

Please contact the Designated Federal Officer (DFO) at the number listed below to schedule comment time. Time will be allotted on a first-come first-serve basis. If you are interested in participating in this or subsequent meetings of the workgroup, details will be posted when they are available at: https://www.epa.gov/ocir/local-government-advisory-committee-lgac. Comments submitted to the workgroup are solely for the Workgroup's consideration.

ADDRESSES: The LGAC Protecting America's Waters Workgroup meeting will be held via teleconference. The Workgroup's meeting summary will be available after the meeting online at: https://www.epa.gov/ocir/local-government-advisory-committee-lgac and can be obtained by written request to the DFO.

FOR FURTHER INFORMATION CONTACT: Frances Eargle, the Designated Federal Officer for the Local Government Advisory Committee (LGAC) at (202) 564-3115 or email at Eargle.frances@epa.gov.

Information on Services for Those With Disabilities: For information on access or services for individuals with disabilities, please contact Frances Eargle at (202) 564-3115 or eargle.frances@epa.gov. To request accommodation of a disability, please request 2 days prior to the meeting, to give EPA as much time as possible to process your request.

Dated: August 19, 2016.
Jack Bowles,
Director, State and Local, Office of Congressional and Intergovernmental Relations.

[FR Doc. 2016-20408 Filed 8-24-16; 8:45 am]

BILLING CODE 6560-50-P